DEPARTMENT OF COMMERCE

National Oceanic and Atmospheric Administration

RIN 0648-XD939

Marine Mammals; File No. 19526

AGENCY: National Marine Fisheries Service (NMFS), National Oceanic and Atmospheric Administration (NOAA), Commerce.

ACTION: Notice; issuance of permit.

SUMMARY: Notice is hereby given that a permit has been issued to Adam White, BBC Natural History Unit, The Limes, Lea, Malmesbury Wiltshire, SN16 9PG United Kingdom, to conduct commercial or educational photography on four species of cetaceans and five species of pinnipeds.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Jennifer Skidmore, (301) 427-8401.

SUPPLEMENTARY INFORMATION: On May 15, 2015, notice was published in the Federal Register (80 FR 27928) that a request for a permit to conduct commercial or educational photography on long-beaked common dolphins (Delphinus capensis), short-beaked common dolphins (Delphinus delphis), Risso's dolphins (Grampus griseus), bottlenose dolphins (Tursiops truncatus), harbor seals (Phoca vitulina), California sea lions (Zalophus californianus), Northern elephant seals (Mirounga angustirostris), Steller sea lions (Eumetopias jubatus), and Northern fur seals (Callorhinus ursinus) had been submitted by the above-named applicant. The requested permit has been issued under the authority of the Marine Mammal Protection Act of 1972, as amended (16 U.S.C. 1361 et seq.) and the regulations governing the taking and importing of marine mammals (50 CFR part 216).

The permit authorizes filming of marine mammals along the California coast from Point Año Nuevo south to the Channel Islands. Cetaceans may be filmed from boats and pole cameras. Pinnipeds may be filmed from boats, pole cameras, underwater divers, and while hauled out on land. Footage will be used for a Big Blue Live television series examining marine issues and conservation successes along the coast of California. The permit is valid until September 30, 2015.

In compliance with the National Environmental Policy Act of 1969 (42 U.S.C. 4321 et seq.), a final determination has been made that the activity proposed is categorically excluded from the requirement to prepare an environmental assessment or environmental impact statement.

Dated: July 7, 2015.
Julia Harrison,
Chief, Permits and Conservation Division, Office of Protected Resources, National Marine Fisheries Service.

[FR Doc. 2015-16913 Filed 7-9-15; 8:45 am]

BILLING CODE 3510-22-P